DEPARTMENT OF ENERGY

Federal Energy Regulatory Commission

[Docket No. CP93-541-012]

Young Gas Storage Company, Ltd.; Notice of Compliance Filing

June 7, 2002.

Take notice that on April 29, 2002, Young Gas Storage Company, Ltd. (Young) tendered for filing and acceptance by the Federal Energy Regulatory Commission (Commission) the following revised tariff sheets to its FERC Gas Tariff, Original Volume No. 1, to become effective April 10, 2002:

Sixth Revised Sheet No. 11

Fifth Revised Sheet No. 12

Fifth Revised Sheet No. 13

Sixth Revised Sheet No. 14

Eighth Revised Sheet No. 47

Third Revised Sheet No. 47A

Third Revised Sheet No. 47B

Third Revised Sheet No. 47C

Fifth Revised Sheet No. 47D

First Sheet No. 47E

First Sheet No. 47F

First Sheet No. 47G

First Sheet No. 47H

First Sheet No. 47I

Twelfth Revised Sheet No. 50

Ninth Revised Sheet No. 52

Third Revised Sheet No. 52A

Fifth Revised Sheet No. 52B

First Sheet No. 52C

Second Revised Sheet No. 80I

Second Revised Sheet No. 80M

Second Revised Sheet No. 80N

Young states these tariff sheets were accepted by the Commission in Young's certificate amendment proceeding at Docket No. CP93-541-010, and are being filed with an effective date of April 10, 2002 to comply with that order.

Any person desiring to protest said filing should file a protest with the Federal Energy Regulatory Commission, 888 First Street, NE., Washington, DC 20426, in accordance with Section 385.211 of the Commission's Rules and Regulations. All such protests must be filed by June 11, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-14914 Filed 6-12-02; 8:45 am]

BILLING CODE 6717-01-P